NUCLEAR REGULATORY COMMISSION

[NRC-2016-0001]

Sunshine Act Meeting

DATE: February 29, March 7, 14, 21, 28, April 4, 2016.

PLACE: Commissioners' Conference Room, 11555 Rockville Pike, Rockville, Maryland.

STATUS: Public and Closed.

Week of February 29, 2016

Wednesday, March 2, 2016

3:00 p.m. Discussion of Management and Personnel Issues (Closed—Ex. 2&6).

Thursday, March 3, 2016

9:30 a.m. Briefing on NRC International Activities (Closed—Ex. 1&9).

Friday, March 4, 2016

10:00 a.m. Meeting with Advisory Committee on Reactor Safeguards (Public Meeting); (Contact: Mark Banks: 301-415-3718)

This meeting will be webcast live at the Web address— http://www.nrc.gov/.

Week of March 7, 2016—Tentative

There are no meetings scheduled for the week of March 7, 2016.

Week of March 14, 2016—Tentative

Tuesday, March 15, 2016

9:00 a.m. Briefing on Power Reactor Decommissioning Rulemaking (Public Meeting); (Contact: Jason Carneal: 301-415-1451).

This meeting will be webcast live at the Web address— http://www.nrc.gov/.

Thursday, March 17, 2016

9:30 a.m. Meeting with the Advisory Committee on the Medical Uses of Isotopes (Public Meeting); (Contact: Douglas Bollock: 301-415-6609)

This meeting will be webcast live at the Web address— http://www.nrc.gov/.

Week of March 21, 2016—Tentative

There are no meetings scheduled for the week of March 21, 2016.

Week of March 28, 2016—Tentative

Tuesday, March 29, 2016

9:30 a.m. Briefing on Project Aim (Public Meeting); (Contact: Janelle Jessie: 301-415-6775)

This meeting will be webcast live at the Web address— http://www.nrc.gov/.

Wednesday, March 30, 2016

9:30 a.m. Briefing on Security Issues (Closed Ex. 1).

Week of April 4, 2016—Tentative

Tuesday, April 5, 2016

9:30 a.m. Briefing on Threat Environment Assessment (Closed Ex. 1)

The schedule for Commission meetings is subject to change on short notice. For more information or to verify the status of meetings, contact Denise McGovern at 301-415-0681 or via email at Denise.McGovern@nrc.gov.

The NRC Commission Meeting Schedule can be found on the Internet at: http://www.nrc.gov/public-involve/public-meetings/schedule.html.

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0739, by videophone at 240-428-3217, or by email at Kimberly.Meyer-Chambers@nrc.gov. Determinations on requests for reasonable accommodation will be made on a case-by-case basis.

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: February 25, 2016.
Denise McGovern,
Policy Coordinator, Office of the Secretary.

[FR Doc. 2016-04478 Filed 2-25-16; 4:15 pm]

BILLING CODE 7590-01-P